DEPARTMENT OF JUSTICE

Office of Justice Programs

Office for Victims of Crime; Agency Information Collection Activities: Proposed Collection; Comments Requested

ACTION: 30-Day Notice of Information Collection Under Review: Extension of a currently approved collection; Victims of Crime Act, Crime Victim Assistance Grant Program Performance Report.

The Department of Justice (DOJ), Office of Justice Programs (OJP), Office for Victims of Crime (OVC) has submitted the following information collection request to the Office of Management and Budget (OMB) for review and approval in accordance with the Paperwork Reduction Act of 1995. The proposed information collection is published to obtain comments from the public and affected agencies. This proposed information collection was previously published n the Federal Register Volume 70, Number 178, page 54573 on September 15, 2005, allowing for a 60 day comment period.

The purpose of this notice is to allow for an additional 30 days for public comment until June 1, 2006. this process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Victims of Crime Act, Crime Victim Assistance Grant Program, Performance Report.

(3) Agency form number, if any, and the applicable component of the Department sponsoring the collection: The form number is 1121-0115. Office of Victims of Crime, Office of Justice Programs, U.S. Department of Justice is sponsoring the collection.

(4) Affected public who will be asked or required to respond, as well as a brief abstract: Primary: Primary: State government. Other: None. The VOCA, Crime Victim Assistance Grant Program, State Performance Report is a required annual submission by state grantees to report to the Office for Victims of Crime (OVC) on the uses and effects VOCA victim assistance grant funds have had on services to crime victim in the State, to certify compliance with the eligibility requirement of VOCA, and to provide a summary of supported activities carried out within the State during the grant period. This information will be aggregated and serve as supporting documentation for the Director's biennial report to the President and to the Congress on the effectiveness of the activities supported by these grants.

(5) An estimate of the total number of respondents and the amount of time estimated for an average respondent to respond/reply: The information to compile these reports will be drawn from victim assistance program data to the 57 respondents (grantees). The number of victim assistance programs varies widely from state to state. A state could be responsible for compiling subgrant data for as many as 391 programs (Ohio) to as few as 12 programs (District of Columbia). Therefore, the estimated clerical hours can range from 1 to 70 hours.

(6) An estimate of the total public burden (in hours) associated with the collection: The current estimated burden is 1,197 (20) hours per respondent (estimate median) + 1 hour per respondent for recordkeeping × 57 respondents = 1,197). There is no increase in the annual recordkeeping and reporting burden.

If additional information is required contact: Robert B. Briggs, Department Clearance Officer, United States Department of Justice, Justice Management Division, Policy and Planning Staff, Patrick Henry Building, Suite 1600, 601 D Street, NW., Washington, DC 20530.

Dated: April 25, 2006.
Robert B. Briggs,
Department Clearance Officer, Department of Justice.

[FR Doc. 06-4100 Filed 5-1-05; 8:45 am]

BILLING CODE 4410-18-M